DEPARTMENT OF HOMELAND SECURITY

Federal Emergency Management Agency

[Docket ID FEMA-2025-0002; Internal Agency Docket No. FEMA-B-2534]

Changes in Flood Hazard Determinations

AGENCY: Federal Emergency Management Agency, Department of Homeland Security.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The current effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: David Bascom, Acting Director, Engineering and Modeling Division, Risk Analysis, Planning & Information Directorate, FEMA, 400 C Street SW, Washington, DC 20472, or (email) david.bascom@fema.dhs.gov; or visit the FEMA Mapping and Insurance eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Elizabeth Asche,
Assistant Administrator, Federal Insurance Directorate, Resilience, Federal Emergency Management Agency, Department of Homeland Security.

State and county | Location and case No. | Chief executive officer of community | Community map repository | Online location of letter of map revision | Date of modification | Community No.
Florida
Bay | Unincorporated areas of Bay County (24-04-7348P). | Robert Majka, Bay County Manager, 840 West 11th Street, Panama City, FL 32401. | Bay County Planning and Zoning Department, 840 West 11th Street, Panama City, FL 32401. | https://msc.fema.gov/portal/advanceSearch. | Aug. 25, 2025 | 120004
Collier | Unincorporated areas of Collier County (25-04-1234P). | Amy Patterson, Manager, Collier County, 3299 Tamiami Trail East, Suite 202, Naples, FL 34112. | Collier County Growth Management Community Development Department, Naples, FL 34104. | https://msc.fema.gov/portal/advanceSearch. | Sep. 2, 2025 | 120067
Lake | City of Leesburg (24-04-2701P). | The Honorable Alan Reisman, Mayor, City of Leesburg, 501 West Meadow Street, Leesburg, FL 34748. | City Hall, 501 West Meadow Street, Leesburg, FL 34748. | https://msc.fema.gov/portal/advanceSearch. | Aug. 25, 2025 | 120136
Orange | City of Orlando (24-04-4619P). | The Honorable Buddy Dyer, Mayor, City of Orlando, 400 South Orange Avenue, Orlando, FL 32801. | Public Works Department, Engineering Services Division, 400 South Orange Avenue, 8th Floor, Orlando, FL 32801. | https://msc.fema.gov/portal/advanceSearch. | Sep. 8, 2025 | 120186
Orange | City of Orlando (25-04-0459P). | The Honorable Buddy Dyer, Mayor, City of Orlando, 400 South Orange Avenue, Orlando, FL 32801. | Public Works Department, Engineering Services Division, 400 South Orange Avenue, 8th Floor, Orlando, FL 32801. | https://msc.fema.gov/portal/advanceSearch. | Aug. 14, 2025 | 120186
Orange | Unincorporated areas of Orange County (24-04-2048P). | The Honorable Jerry L. Demings, Mayor, Orange County, 201 South Rosalind Avenue, 5th Floor, Orlando, FL 32801. | Public Works Department, Stormwater Management Division, 4200 South John Young Parkway, Orlando, FL 32839. | https://msc.fema.gov/portal/advanceSearch. | Sep. 5, 2025 | 120179
Osceola | Unincorporated areas of Osceola County (24-04-5261P). | Don Fisher, Manager, Osceola County, 1 Courthouse Square, Suite 4700, Kissimmee, FL 34741. | Osceola County Public Works Department, 1 Courthouse Square, Suite 1400, Kissimmee, FL 34741. | https://msc.fema.gov/portal/advanceSearch. | Aug. 8, 2025 | 120189
Volusia | City of Ormond Beach (24-04-1515P). | Joyce Shanahan, Manager, City of Ormond Beach, 22 South Beach Street, Ormond Beach, FL 32174. | City Hall, 22 South Beach Street, Ormond Beach, FL 32174. | https://msc.fema.gov/portal/advanceSearch. | Aug. 26, 2025 | 125136
Volusia | Unincorporated areas of Volusia County (24-04-1515P). | George Recktenwald, Manager, Volusia County, 123 West Indiana Avenue, DeLand, FL 32720. | Volusia County Thomas C. Kelly Administration Center, 123 West Indiana Avenue, DeLand, FL 32720. | https://msc.fema.gov/portal/advanceSearch. | Aug. 26, 2025 | 125155
Georgia: Forsyth | Unincorporated areas of Forsyth County (24-04-4810P). | David McKee, Manager, Forsyth County, 110 East Main Street, Suite 210, Cumming, GA 30040. | Forsyth County, Administration Center, 110 East Main Street, Suite 130, Cumming, GA 30040. | https://msc.fema.gov/portal/advanceSearch. | Sep. 4, 2025 | 130312
Indiana:
Hancock | City of Greenfield (22-05-2944P). | The Honorable Guy Titus, Mayor, City of Greenfield, 10 South State Street, Greenfield, IN 46140. | City Hall, 10 South State Street, Greenfield, IN 46140. | https://msc.fema.gov/portal/advanceSearch. | Sep. 11, 2025 | 180084
Hancock | Unincorporated areas of Hancock County (22-05-2944P). | Bill Spalding, President, Hancock County Board of Commissioners, 111 South American Legion Place, Suite 217, Greenfield, IN 46140. | Hancock County Annex Building, 111 South American Legion Place, Suite 171, Greenfield, IN 46140. | https://msc.fema.gov/portal/advanceSearch. | Sep. 11, 2025 | 180419
Minnesota:
Dakota | City of Apple Valley (23-05-1985P). | The Honorable Clint Hooppaw, Mayor, City of Apple Valley, 7100 147th Street West, Apple Valley, MN 55124. | City Hall, 7100 147th Street West, Apple Valley, MN 55124. | https://msc.fema.gov/portal/advanceSearch. | Sep. 2, 2025 | 270050
Dakota | City of Burnsville (23-05-1985P). | The Honorable Elizabeth Kautz, Mayor, City of Burnsville, 100 Civic Center Parkway, Burnsville, MN 55337. | City Hall, 100 Civic Center Parkway, Burnsville, MN 55337. | https://msc.fema.gov/portal/advanceSearch. | Sep. 2, 2025 | 270102
Dakota | City of Lakeville (23-05-1985P). | The Honorable Luke Hellier, Mayor, City of Lakeville, 20195 Holyoke Avenue, Lakeville, MN 55044. | City Hall, 20195 Holyoke Avenue, Lakeville, MN 55044. | https://msc.fema.gov/portal/advanceSearch. | Sep. 2, 2025 | 270107
Mississippi: Harrison. | City of Pass Christian (25-04-0868P). | The Honorable Jimmy Rafferty, Mayor, City of Pass Christian, 200 West Scenic Drive, Pass Christian, MS 39571. | Building Department, 200 West Scenic Drive, Pass Christian, MS 39571. | https://msc.fema.gov/portal/advanceSearch. | Sep. 11, 2025 | 285261
New Jersey: Somerset. | Borough of Manville (24-02-0606P). | The Honorable Richard M. Onderko, Mayor, Borough of Manville, 325 North Main Street, Manville, NJ 08835. | Building Department, 325 North Main Street, Manville, NJ 08835. | https://msc.fema.gov/portal/advanceSearch. | Sep. 4, 2025 | 340437
North Carolina: Forsyth. | City of Winston-Salem (24-04-7062P). | The Honorable Allen Joines, Mayor, City of Winston-Salem, P.O. Box 2511, Winston-Salem, NC 27102. | City Hall, 100 East 1st Street, Winston-Salem NC 27101. | https://msc.fema.gov/portal/advanceSearch. | Sep. 5, 2025 | 375360
Pennsylvania:
Montgomery | Borough of Conshohocken (24-03-0897P). | Tina Sokolowski, President, Borough of Conshohocken Council, 400 Fayette Street, Conshohocken, PA 19428. | Borough Hall, 400 Fayette Street, Suite 200, Conshohocken, PA 19428. | https://msc.fema.gov/portal/advanceSearch. | Sep. 2, 2025 | 420949
Montgomery | Borough of West Conshohocken (24-03-0897P). | The Honorable Danelle Fournier, Mayor, Borough of West Conshohocken, 112 Ford Street, West Conshohocken, PA 19428. | Borough Hall, 112 Ford Street, West Conshohocken, PA 19428. | https://msc.fema.gov/portal/advanceSearch. | Sep. 2, 2025 | 420710
Montgomery | Township of Plymouth (24-03-0897P). | Matt West, Manager, Township of Plymouth, 700 Belvoir Road, Plymouth Meeting, PA 19462. | Township Hall, 700 Belvoir Road, Plymouth Meeting, PA 19462. | https://msc.fema.gov/portal/advanceSearch. | Sep. 2, 2025 | 420955
Tennessee: Shelby | City of Lakeland (24-04-1254P). | The Honorable Josh Roman, Mayor, City of Lakeland, 10001 Highway 70, Lakeland, TN 38002. | City Hall, 10001 Highway 70, Lakeland, TN 38002. | https://msc.fema.gov/portal/advanceSearch. | Sep. 4, 2025 | 470402
Texas:
Bexar | City of San Antonio (24-06-0795P). | The Honorable Ron Nirenberg, Mayor, City of San Antonio, P.O. Box 839966, San Antonio, TX 78283. | Public Works Department, Storm Water Division, 1901 South Alamo Street, 2nd Floor, San Antonio, TX 78205. | https://msc.fema.gov/portal/advanceSearch. | Aug. 11, 2025 | 480045
Collin | City of McKinney (24-06-2290P). | The Honorable George Fuller, Mayor, City of McKinney, P O. Box 517, McKinney, TX 75070. | Engineering Department, 401 East Virginia Street, McKinney, TX 75069. | https://msc.fema.gov/portal/advanceSearch. | Sep. 2, 2025 | 480135
Collin and Denton | City of Plano (24-06-0941P). | The Honorable John B. Muns, Mayor, City of Plano, 1520 K Avenue, Plano, TX 75074. | City Hall, 1520 K Avenue, Plano, TX 75074. | https://msc.fema.gov/portal/advanceSearch. | Sep. 2, 2025 | 480140
Gillespie | City of Fredericksburg (24-06-1853P). | The Honorable Jeryl Hoover, Mayor, City of Fredericksburg, 126 West Main Street, Fredericksburg, TX 78624. | City Hall, 126 West Main Street, Fredericksburg, TX 78624. | https://msc.fema.gov/portal/advanceSearch. | Sep. 11, 2025 | 480252
Hays | Unincorporated areas of Hays County (25-06-0011X). | The Honorable Ruben Becerra, Hays County Judge, 111 East San Antonio Street, Suite 300, San Marcos, TX 78666. | Hays County Development Services Department, 2171 Yarrington Road, Kyle, TX 78640. | https://msc.fema.gov/portal/advanceSearch. | Sep. 11, 2025 | 480321
Montgomery | City of Conroe (24-06-1194P). | The Honorable Duke W. Coon, Mayor, City of Conroe, P.O. Box 3066, Conroe, TX 77301. | City Hall, 300 West Davis Street, Conroe, TX 77301. | https://msc.fema.gov/portal/advanceSearch. | Aug. 11, 2025 | 480484
Montgomery | Unincorporated areas of Montgomery County (24-06-1194P). | The Honorable Mark J. Keough, Montgomery County Judge, 501 North Thompson Street, Suite 401, Conroe, TX 77301. | Montgomery County Alan B. Sadler Commissioners Court Building, 501 North Thompson Street, Suite 100, Conroe, TX 77301. | https://msc.fema.gov/portal/advanceSearch. | Aug. 11, 2025 | 480483
Wise | City of Chico (24-06-1613P). | The Honorable Colleen Self, Mayor, City of Chico, P.O. Box 37, Chico, TX 76431. | City Hall, 400 South Hovey Street, Chico, TX 76431. | https://msc.fema.gov/portal/advanceSearch. | Sep. 12, 2025 | 481053
Virginia:
Loudoun | Town of Leesburg (24-03-0775P). | Kaj Dentler, Manager, Town of Leesburg, 25 West Market Street, Leesburg, VA 20176. | Department of Community Development, Engineering Division, 222 Catoctin Circle, Suite 200, Leesburg, VA 20175. | https://msc.fema.gov/portal/advanceSearch. | Sep. 8, 2025 | 510091
Loudoun | Town of Leesburg (24-03-0821P). | Kaj Dentler, Manager, Town of Leesburg, 25 West Market Street, Leesburg, VA 20176. | Department of Community Development, Engineering Division, 222 Catoctin Circle, Suite 200, Leesburg, VA 20175. | https://msc.fema.gov/portal/advanceSearch. | Aug. 4, 2025 | 510091
Loudoun | Unincorporated areas of Loudoun County (24-03-0775P). | Tim Hemstreet, Administrator, Loudoun County, 1 Harrison Street, Southeast, 5th Floor, Leesburg, VA 20175. | Loudoun County Government Center, 1 Harrison Street Southeast, 3rd Floor, MSC #60, Leesburg, VA 20175. | https://msc.fema.gov/portal/advanceSearch. | Sep. 8, 2025 | 510090
Wisconsin:
Kenosha | Village of Bristol (24-05-0361P). | Mike Farrell, President, Village of Bristol Board, 19801 83rd Street, Bristol, WI 53104. | Village Hall, 19801 83rd Street, Bristol, WI 53104. | https://msc.fema.gov/portal/advanceSearch. | Aug. 7, 2025 | 550595
Kenosha | Village of Pleasant Prairie (24-05-0361P). | John P. Steinbrink, President, Village of Pleasant Prairie Board, 9915 39th Avenue, Pleasant Prairie, WI 53158. | Village Hall, 9915 39th Avenue, Pleasant Prairie, WI 53158. | https://msc.fema.gov/portal/advanceSearch. | Aug. 7, 2025 | 550613

[FR Doc. 2025-12733 Filed 7-8-25; 8:45 am]

BILLING CODE 9110-12-P